ENVIRONMENTAL PROTECTION AGENCY

[OAR-2004-0512; FRL-7949-8]

Agency Information Collection Activities; Submission to OMB for Review and Approval; Comment Request; Vehicle Service Information Web Site Audit, EPA ICR Number 2181.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. Under OMB regulations, the Agency may continue to conduct or sponsor the collection of information while this submission is pending at OMB. This ICR describes the nature of the information collection and its estimated burden and cost.

DATES: Additional comments may be submitted on or before September 8, 2005.

ADDRESSES: Submit your comments, referencing docket ID number OAR-2004-0512, to EPA online using EDOCKET (our preferred method), by e-mail to “a-and-r-Docket@epa.gov”, or by mail to: Environmental Protection Agency, EPA Docket Center (EPA/DC), Air and Radiation Docket and Information Center, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Holly Pugliese, Certification and Compliance Division, U.S. Environmental Protection Agency, 2000 Traverwood, Ann Arbor, MI 48105; telephone number: (734) 214-4288; E-mail address: pugliese.holly@epa.gov.

SUPPLEMENTARY INFORMATION: EPA has submitted the following ICR to OMB for review and approval according to the procedures prescribed in 5 CFR 1320.12. On April 27, 2005 (70 FR 21745) EPA sought comments on this ICR pursuant to 5 CFR 1320.8(d). EPA received two comments on this ICR. One commenter requested that all of the information collected under this ICR be made available to the public and that a copy of this information be sent to the commenter. All of the information collected will be made available to the public at the Web site EPA has established for this project at www.oemaudit.com. EPA can also arrange to have hard copies available to interested parties.

EPA also received comment from the National Automobile Dealers Association (NADA). NADA commented that EPA misidentified the NAICS Code of the potential participants of the survey. In the ICR, EPA identified NAICS Code 8111 which is the general category for automotive repair and maintenance. NADA commented that EPA should include other NAICS codes including automobile dealers (NAICS 4411), automotive parts, accessories and tire stores (NAICS 4413), gasoline stations (NAICS 4471), and other transportation and vehicle maintenance facilities covered under two digit code 48.

In response to this comment, EPA believed that NAICS code 8111 was sufficiently broad to encompass the diversity of the automotive repair industry and we did not intend to limit participation in the audit by selecting this particular NAICS code. However, in order to avoid any perception that participation will be limited, EPA believes it is reasonable to add the NAICS code as outlined in the NADA comments and has changed the supporting statement for this ICR accordingly.

NADA also commented on the labor rate used by EPA to calculate the total burden of this ICR. To calculate the total burden, EPA used $27/hour. NADA commented that this seemed unreasonably low and referenced unidentified 2004 data that the average customer labor rate for new car dealers (NAICS code 44111) is $75/hour.

The $27/hour figure used by EPA comes from the Bureau of Labor Statistics Civilian Worker Cost Table (June, 2005) (http://stats.bls.gov/news.release/ecec.t02.htm). According to this table, employee compensation for the occupational group that represents installation, maintenance, and repair workers is $27.59/hour. EPA consistently uses information from the this table provided by the Bureau of Labor Statistics to estimate ICR burden and therefore believe that this figure is appropriate to use for this ICR.

EPA has established a public docket for this ICR under Docket ID number OAR-2004-0512, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Vehicle Service Information Web Site Audit

Abstract: EPA finalized regulations in June of 2003 (68 FR 38427; June 27, 2003) requiring auto manufacturers to launch full text Web sites containing all required service information for 1996 and later model years. In order to assess the effectiveness of the Web site provisions of the regulations, EPA believes that input from independent technicians must be of primary consideration. As part of our broader efforts to evaluate the OEM Web sites, EPA is initiating a process to gather feedback directly from the technician community on their experiences with the Web sites and to communicate those findings directly to the OEMs and the service industry as a whole. EPA staff will use this data in conjunction with other internal analyses to assess the effectiveness of the service information Web sites that are required by the regulations. In addition, this information will be used by the Agency to determine if manufacturer guidance or changes to the regulations are needed.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 24 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are independent aftermarket service providers.

Estimated Number of Respondents: 250.

Frequency of Response: bi-weekly.

Estimated Total Annual Hour Burden: 2,042 hours.

Estimated Total Annual Cost: $55,125, which includes $0 annualized capital/startup costs, $0 O&M costs, and $55,125 annual labor costs.

Changes in the Estimates: There is an increase of 2,042 hours in the total estimated burden currently identified in the OMB Inventory of Approved ICR Burdens. This increase is due to a change in program requirements.

Dated: August 1, 2005.
Oscar Morales,
Director, Collection Strategies Division.

[FR Doc. 05-15744 Filed 8-8-05; 8:45 am]

BILLING CODE 6560-50-P